DEPARTMENT OF TRANSPORTATION

Pipeline and Hazardous Materials Safety Administration

49 CFR Part 192

[Docket No. PHMSA-RSPA-2004-19854]

Pipeline Safety: Information Collection Gas Distribution Annual Report Form

AGENCY: Pipeline and Hazardous Materials Safety Administration (PHMSA), DOT.

ACTION: Request for public comments and OMB approval of modifications to an existing information collection.

SUMMARY: As required by the Paperwork Reduction Act of 1995 (PRA), the Pipeline and Hazardous Materials Safety Administration (PHMSA) published a notice in the Federal Register on December 4, 2009, under Docket No. PHMSA-2004-19854 of its intent to revise the agency's Gas Distribution System Annual Report Form (PHMSA F 7100.1-1). PHMSA F 7100.1-1 is covered under the PHMSA information collection titled: “Incident and Annual Reports for Gas Pipeline Operators,” with an OMB Control Number of 2137-0522. PHMSA is publishing this notice to respond to comments and announce that the revised information collection will be submitted to OMB for approval. This notice also informs operators of gas distribution systems that PHMSA is planning for the revised Annual Report Form, once approved, to be used for the 2010 calendar year and submitted to PHMSA by March 15, 2011. The portion of the annual report relative to mechanical fitting (compression couplings) failures will be delayed by one year and will take effect starting with the 2011 calendar year.

DATES: Submit comments to OMB on or before July 28, 2010.

ADDRESSES: You may submit comments identified by the docket number “PHMSA-2004-19854” and OMB Control Number “2137-0522” by any of the following methods:

• Fax: 1-202-395-6566, ATTN: Desk Officer for Department of Transportation (DOT)/PHMSA.

• Mail: Office of Information and Regulatory Affairs (OIRA), OMB, 726 Jackson Place, NW., Washington, DC 20503, ATTN: Desk Officer for DOT/PHMSA.

• E-mail: OIRA, Office of Management and Budget, at the following address: oira_submissions@omb.eop.gov (ATTN: Desk Officer for DOT/PHMSA).

Requests for a copy of the information collection should be directed to Cameron Satterthwaite, 202-366-1319 or by e-mail at Cameron.Satterthwaite@dot.gov, or by mail at DOT, PHMSA, 1200 New Jersey Avenue, SE., Washington, DC 20590-0001.

FOR FURTHER INFORMATION CONTACT:

Technical Information: Mike Israni, 202-366-4571 or by e-mail at Mike.Israni@dot.gov.

Information Collection: Cameron Satterthwaite, 202-366-1319 or by e-mail at Cameron.Satterthwaite@dot.gov.

SUPPLEMENTARY INFORMATION: Section 1320.8(d), Title 5, Code of Federal Regulations requires PHMSA to provide interested members of the public and affected agencies an opportunity to comment on information collection and recordkeeping requests. This notice identifies a revised information collection request that PHMSA will be submitting to OMB for approval. This information collection is contained in the pipeline safety regulations at 49 CFR parts 190-199. PHMSA has revised burden estimates, where appropriate, to reflect the proposed adjustments to the Gas Distribution System Annual Report Form (PHMSA F 7100.1-1). The following information is provided for the information collection: (1) Title of the information collection; (2) OMB control number; (3) type of request; (4) abstract of the information collection activity; (5) description of affected public; (6) estimate of total annual reporting and recordkeeping burden; and (7) frequency of collection. PHMSA will request a three-year term of approval for the information collection activity. PHMSA is posting the revised Gas Distribution Annual Report Form and instructions to Docket No. PHMSA-2004-19854. Once approved, the revised Annual Report Form will be used to collect information for the 2010 calendar year and submitted to PHMSA by March 15, 2011. The portion of the annual report relative to mechanical fitting (compression couplings) failures will be delayed by one year and will take effect starting with the 2011 calendar year.

This notice includes the following:

I. Background

II. Summary of Comments

III. Proposed Information Collection Revisions and Request for Comments

I. Background

On December 4, 2009, (74 FR 34906), PHMSA published a final rule titled: “Pipeline Safety: Integrity Management Program for Gas Distribution Pipelines.” The Distribution Integrity Management Program (DIMP) rulemaking established the requirements for integrity management programs for Gas Distribution systems. In the DIMP notice of proposed rulemaking, PHMSA proposed the reporting of all plastic pipe failures. In the final rule, PHMSA modified this proposal to limit the reporting of plastic pipe failures to those occurring on compression couplings but extended the collection to include couplings used in metal pipe. PHMSA initially provided an opportunity for comments on this proposal for 30 days and subsequently published another Federal Register notice (December 31, 2009; 74 FR 69286) to allow for a total comment period of 60 days. PHMSA is developing a final rule to address the comments received on this proposal and revise the pipeline safety regulations to clarify the extent of pipe fittings involved in the compression coupling (mechanical fitting) failure information collection, revise key dates for the collection and submission of mechanical fitting failure information, align threat categories in § 192.1007 with the “cause of leak” categories on the Annual Report Form and Instructions, and clarify the Excess Flow Valve (EFV) metric to be reported by operators of gas systems.

In addition to the comment period for the proposed regulatory requirements, PHMSA used the December 4, 2009, final rule to announce a 60-day comment period seeking public comments about the proposed modification of the information collection: OMB Control Number 2137-0522, with respect to the corresponding annual report form (Form PHMSA F 7100.1-1 Annual Report for Gas Distribution Systems). Section 191.11 requires each operator of a gas distribution pipeline system, except as provided in § 191.11(b), to submit report Form PHMSA F 7100.1-1 Annual Reports for Gas Distribution System. The proposed revisions to PHMSA F 7100.1-1 are needed for operators to submit information required by the DIMP final rule regarding compression coupling (mechanical fitting) failures, four program performance measures, and the number of EFVs in the system at the end of the year on single-family residential services. The purpose of this notice is to address comments received from the 60-day comment period and announce the changes to the annual report form that will be submitted to OMB for approval.

II. Summary of Comments

PHMSA received twenty-three letters commenting on the proposed compression coupling (now referred to as mechanical fittings) reporting requirements on the Distribution Annual Report Form. The comments were from twelve pipeline operators, two trade associations representing pipeline operators, NAPSR representing State pipeline safety regulators, one State pipeline regulatory agency, two manufacturers, and one industry consultant. Several commenters submitted multiple letters. In addition to comments about the specific information to be collected, commenters expressed concern that the reporting requirements will require operators to perform a “root cause” analysis of each failure. Based on discussion at the Technical Pipeline Safety Standards Committee (TPSSC) meeting and comments submitted to the docket, PHMSA has further modified the proposed Distribution Annual Report Form. A summary of comments about the proposed changes to the information collection, PHMSA's responses, and the date operators are to begin using the revised form are provided below.

The comments were grouped into the following topic summaries:

Comment Topic 1 PRA procedural requirements in making proposed changes to the Gas Distribution System Annual Report form; information being collected is not compatible with the purpose of the gas distribution system annual report.

Comment Topic 2 Delete, change and define data fields and align terms used in § 192.1009, and proposed Part F of the annual report and instructions.

Comment Topic 3 Proposals for other changes to the Gas Distribution System Annual Report Form and instructions.

A discussion of each comment topic and PHMSA's response to each follows:

Comment Topic 1: PRA procedural requirements in making proposed changes to the Gas Distribution System Annual Report form; information being collected is not compatible with the purpose of the gas distribution system annual report.

Several commenters maintained that PHMSA's proposal to modify the Gas Distribution Annual Report information collection did not meet the requirements of 44 U.S.C 3501 et seq. of the PRA of 1995. They indicated that PHMSA did not provide an adequate description of the need, a statement of purpose for the data collection, or an evaluation of the cost benefit of collecting this data. They claimed the proposed changes to the information collection were burdensome, substantive, and without benefit to public safety in near term. Additionally, one commenter stated that the intent of the information collection presented in the proposed rule differed from how the information collection was prescribed in the final rule in § 192.1009.

Southwest Gas maintained that some of the changes were inconsistent with the discussion held with TPSSC on December 12, 2008, and requested that the issue be brought back to the TPSSC for its review and approval.

Some commenters believed that there should be a separate information collection for mechanical fitting failure data. Commenters claimed that the mechanical fitting failure data was too detailed for reporting via the Annual Report Form. A commenter stated that the purpose of the Annual Report Form is to summarize data about an operator's system for the prior year. One commenter suggested the information be collected using the Incident Report form. Another commenter suggested that information could be collected in a manner consistent with the Plastic Pipe Data Collection.

PHMSA Response: PHMSA is taking the necessary measures to comply with the PRA procedural requirements in amending PHMSA F 7100.1-1. The 60-day notice published in the December 4, 2009, DIMP final rule and this 30-day notice are part of those steps to comply with the PRA requirements. PHMSA will not implement the amendments to PHMSA F 7100.1-1 until PHMSA has received approval from OMB.

Mechanical fitting failure has been the cause of a number of incidents on distribution pipelines in recent years and the subject of two PHMSA advisories. PHMSA needs additional information concerning mechanical fitting failures to determine if there are any trends or concerns regarding mechanical fitting failures in the industry. To identify trends, there needs to be sufficient data to characterize the type of fittings which are more susceptible to failure. If too little information is collected about the attributes of the fitting, only broad generalizations could be developed. PHMSA seeks to identify the smallest subset of mechanical fittings which pose the highest risk. The information collection will assist PHMSA in identifying problems where additional targeted requirements may be needed to protect public safety and help prevent future incidents. While the majority of mechanical fittings currently being installed are plastic, problems have been identified with existing steel mechanical fittings. The quality of original pipeline installation, quality of the original material, changes in the environment, and the appropriateness of the original design application can manifest itself in problems over time. For this reason, in the DIMP final rule, PHMSA invited public comment on the extension of this requirement to include reporting of mechanical fittings failures on metal pipe. This information collection may assist operators in identifying specific mechanical fittings, including installation or design practices, which pose the greatest threat to the integrity of their pipeline system.

PHMSA provided the requirements for reporting the information collected in Parts D, E, and F on the Annual Report Form in the DIMP proposed rule and final rule. Additionally, PHMSA discussed the proposed changes with the TPSSC as detailed in the transcript to the meeting which may be reviewed in under Docket Number PHMSA-2009-0203 at www.Regulations.gov. In discussing the revised form with TPSSC, PHMSA conveyed that the purpose of the information to be collected is to determine the root cause of the fitting failures. PHMSA mentioned that even if the plastic pipe failures were removed from reporting, compression coupling (mechanical fitting) failure reporting would still be retained. The National Transportation Safety Board (NTSB) had informed PHMSA that a safety recommendation pertaining to the data collection of mechanical fitting failure information was imminent and recommended that PHMSA revise the DIMP final rule to address more explicitly the risks from compression coupling failures. Based on the discussion at the TPSSC meeting, PHMSA decided to reduce the frequency of the reporting from within 90 days of failure to annually.

Operators conveyed that they need six to twelve months to modify their Information Technology systems, internally generated forms, and data collection procedures to accommodate DIMP-related information collection requirements. In direct response to that concern, PHMSA has revised the Annual Report form and instructions to specify the delayed collection of mechanical fitting failure information in Part F. PHMSA is planning for operators to begin the collection of mechanical fitting failure information on January 1, 2011, for the 2011 Calendar Year with final submission by March 15, 2012. PHMSA supports the involvement of all stakeholders during the review process for future amendments to the Annual Report form based on the data collected. PHMSA is revising the level of effort to complete this information collection as detailed in section III: Proposed Information Collection Revisions and Request for Comments.

PHMSA uses the information operators report on the Annual Report as one method to evaluate operator performance and identify national trends. PHMSA strives to enhance safety in a risk-based, systematic approach to developing and refining pipeline safety programs. The collection of mechanical fitting failure information supports these objectives. While the information could be collected through a separate information collection, the Annual Report Form is an established channel and not incongruous with its purpose. Information operators submit about their transmission integrity management programs was recently integrated into the Transmission Annual Report Form. It was logical to have distribution integrity management information be reported on the Distribution Annual Report Form. PHMSA is pursuing electronic reporting for the Annual Report Form which will reduce the reporting burden on operators. The electronic submission of data will increase the accuracy and quality of data collected which, in turn, will improve PHMSA's data integration efforts. Information about electronic filing can be found in the Updates to Pipeline and Liquefied Natural Gas Reporting Requirements notice of proposed rulemaking published on July 2, 2009 (74 FR 31675).

Comment Topic 2: Delete, change and define data fields. Align terms used in § 192.1009, the Annual Report Form and Instructions, and the Incident Report Form and Instructions

Commenters noted that some of the information requested in the form regarding mechanical fitting failures may not be available and if it is available, would require a significant effort to locate. The information cited on the proposed form included “lot number”, “coupling manufacturer”, and “decade of manufacture”. Commenters claimed that external coatings may obscure the manufacturer's markings. Operators were concerned about potential consequences of leaving fields empty on the Annual Report if they could not locate the information. They requested that these fields be deleted and if they were not deleted, that PHMSA provide operators relief when the information is not readily available or apparent.

Comments were submitted regarding each mechanical fitting failure data field on the proposed Annual Report form. These comments are summarized in the table below.

PHMSA Response: Locating data requires a reasonable effort on the part of operators. Nonetheless, PHMSA recognizes that operators may not be able to locate some of the data requested. While operators may not always be able to identify some of the data, the data they can identify will assist in determining the extent of a mechanical fitting failure issue. More granular data such as “lot number” and “manufacturer” may assist in narrowing an issue to a smaller group of fittings. The Annual Report form and instructions provide for the operator to record “UNAVAILABLE” if the operator cannot locate the “lot number”, “manufacturer”, or the “part or model Number” data. Accordingly, PHMSA retains the reporting requirements included in the DIMP final rule for each mechanical fitting failure data field.

We have changed the title for Part F on the Annual Report Form from “compression coupling” to “mechanical fitting”.

The comments and related PHMSA response pertaining to the data fields are summarized in the following table:

Annual report | Public comments
Coupling Manufacturer | • The Incident Report form cautions that the industry jargon concerning compression fittings can be misleading. Manufacturers have utilized each other's components and sell “private labeled” fittings under their own name. Manufacturer's names change.
PHMSA Response | The instructions from the Incident Report Form are repeated in the Annual Report Form instructions for this field. The instructions address the commenters' concerns about identifying the manufacturer who produced the fitting.
Model No. | • The model number is usually not available. Consider deleting the field.
PHMSA Response | Field retained. Operators are to record “UNAVAILABLE” when they cannot locate the information with reasonable effort.
Lot Number | • The lot number is usually not available. Consider deleting the field.
PHMSA Response | Field retained. Operators are to record “UNAVAILABLE” when they cannot locate the information with reasonable effort.
Decade of Manufacture | • Operators generally know when a fitting was installed but not necessarily when the fitting was manufactured. The fitting may have been in stock for years prior to installation. The information is not readily available. • Change to “Decade of Installation”. • The decade a fitting is manufactured may not be accurate because the information would have to be inferred from pipe installation records
PHMSA Response | The field “Decade of Manufacture” was split into two fields for the operator to provide the best information the operator has available; “Year Installed” and “Year Manufactured”. The year of installation is generally shown on the as-built drawing and/or on a map. If neither the year installed nor the year manufactured is known but the decade manufactured is known, the field “Decade Manufactured” is to be used.
Location in System | • Use radio buttons similar to those in the Incident Report. • “Meter set” and “Riser joint” are confusing. A failure on a flexible field assembled riser could be reported as located either at the meter set or in a riser joint.
PHMSA Response | The field “Location in the System” was split into two fields, “Location of System” and “Type of Mechanical Fitting”, to better identify and reduce confusion as to where the failed fitting was located. The “Location in the System” will identify if the fitting is above or below ground, inside or outside, and if it connects a main-to-main, a main-to-service, or a service-to-main. The type of mechanical fittings include: service/main tee, tapping tee, transition fitting, coupling, riser, adapter, valve, sleeve, or other fitting. Radio buttons are provided.
Nominal Pipe Size | • Change the instructions for “Nominal pipe size” and “Material Type” to “Enter the piping material to which the leaking/pulled-out compression fitting was connected.” and “Enter the nominal piping size”.
PHMSA Response | Radio buttons for most common nominal pipe sizes were added to the form along with a selection of the dimension type of IPS, CTS, or NPS.
Material Type (Body) | • Segregate the data sets for plastic fittings from metal fittings to avoid confusion in the data. • Add type of materials being joined by the compression couplings.
PHMSA Response | The “Material Type (Body)” field was split into three fields to identify the fitting material and the material of the two pipes connected to the fitting.
Nature of Failure | • Consider deleting the field.
| • Change to “Cause of Release” or “Cause of Leak”.
| • Change to “Apparent Root Cause”.
| • Determining the “nature of failure” goes beyond reporting to performing a “root cause” analysis. Operators would need to develop new practices and procedures to determine root cause.
| • PHMSA should develop procedures for how to perform a root cause analysis.
| • Select the “nature of failure” from the following choices: “leak through seal”, “leak through body” or “pull-out”.
| • Select the “nature of failure” from the existing eight causes from Part C of the Annual Report Form.
| • Compressive forces during installation may be fixed by design or they may be influenced by human factors. External forces or environmental changes may also affect them.
| • Performance of compression couplings are dependent upon design, fabrication, installation, application, and external factors.
| • Need to further delineate between types of couplings. Request industry stakeholder group create standard for performing a root cause analysis and for reporting of data.
| • Gather factual data regarding the largest problems: installation and application practices. Operators should report data, not the failure cause. Reporting of cause requires expert forensic analysis. Remove “manufacturing defect” as operators cannot determine.
| • Analysis is best performed at the operator level.
PHMSA Response | Field retained. Operators are to record “UNAVAILABLE” when they cannot locate the information with reasonable effort. Operators are required to investigate failures per section 192.617. The investigation of a hazardous leak on a mechanical fitting would follow the operator's established procedure for determining the cause of the failure. The field “Nature of Failure” was changed to “Apparent cause of leak” and provided the same choices as on the Annual Report Form in Part C- Total Leaks and Hazardous leaks eliminated/repaired During Year. Additionally, the field was split into two additional fields for operators to select the type of defect (construction, material, design, previous damage, thermal expansion/contraction) and the location of the leak (leak through seal, leak through body, pull-out).
Number of Similar Failures | • Term “Number of Similar Failures” was not mentioned in 192.1009. • Determining the number of similar failures requires judgment.
| • Consider deleting the field. Nature of the information requested, such as lot number/part number makes it impractical to have similar failures.
| • Confusing and inappropriate—Consider deleting the field.
PHMSA Response | This field was intended to reduce the number of failures an operator would report if they were similar in nature. Due to the confusion, PHMSA eliminates this field.

Comment Topic 3 Proposals for Other Changes to the Gas Distribution System Annual Report Form and Instructions.

Some of the other comments proposed changes to other parts of the Annual Report Form. A commenter requested that one of the columns titled: “Other” in Part B.1 be amended to “Other Plastic” to be consistent with Part B.2 and B.3. Another commenter maintained that based on The Integrity Management for Gas Distribution Report of Phase 1 Investigations (December 2005), the “PERCENT OF UNACCOUNTED FOR GAS” in Part H is not a valid national level performance measure and should be removed from the Annual Report Form.

NAPSR suggested that PHMSA modify the form instructions to align with the changes recently made to the incident report form and instructions. NAPSR also proposed a revision of the definition of “excavation damage” to include “damaged tracer wire” and the use of the term “enclosure” as opposed to the “housing” for the line device.

Commenters also requested a “save” feature for electronic reporting so that the report can be printed out and circulated for review prior to electronic submittal. Additionally, they noted the importance of the use of pick lists when possible instead of free form data collection.

PHMSA Response: PHMSA appreciates the input commenters provided to improve the Annual Report Form. PHMSA made an editorial correction to the column titles for “Other” in Part B.1 and B.2 on the proposed Annual Report form. A “save” feature will be available for electronic data submission for the revised annual report. The paper submission includes pick lists as will future electronic submission. Under this information collection notice, PHMSA limits changes to and addresses comments about the Annual Report form and instructions to those proposed in the DIMP final rule.

III. Proposed Information Collection Revisions and Request for Comments

The revised burden hours associated with this information collection is:

Title of Information Collection: Incident and Annual Reports for Gas Pipeline Operators.

OMB Control Number: 2137-0522.

Type of Request: Revision of currently approved information collection to one form within the information collection, PHMSA F 7100.1-1 Annual Reports for Gas Distribution System.

Abstract: Currently Information Collection 2137-0522 titled: “Incident and Annual Reports for Gas Pipeline Operators” has an approved burden hour estimate of 37,845 hours. This information collection consists of incident and annual reporting for gas pipeline operators. Based on review of proposed changes to the Gas Distribution Annual Report form data, PHMSA estimates the respondent community of 1,262 Distribution Operators to report a total of 18,000 mechanical fitting failures. PHMSA estimates that the form changes relative to this notice will result in one hour increase per mechanical fitting failure. These actions would result in an increase from 37,845 hours to an estimated 55,845 hours (37,845 hours + 18,000 hours).

The result of this revision is specified in the following:

Affected Public: Gas Pipeline Operators.

Estimated Number of Respondents: 2,212.

Estimated Total Annual Burden Hours: 55,845 hours (18,000 hour increase).

Frequency of collection: Annually with the option for the operator to submit mechanical fitting failure information electronically at greater frequency if the operator chooses.

Issued in Washington, DC on June 18, 2010.
Jeffrey D. Wiese,
Associate Administrator for Pipeline Safety.

[FR Doc. 2010-15633 Filed 6-25-10; 8:45 am]

BILLING CODE 4910-60-P